FEDERAL HOUSING FINANCE BOARD

Sunshine Act Notice; Announcing a Public Hearing on Corporate Governance of the Federal Home Loan Banks

Time and Date: The public hearing is scheduled to begin at 10 a.m. on Friday, January 23, 2004.

Place: Board Room, Second Floor, Federal Housing Finance Board, 1777 F Street, NW., Washington, DC 20006.

Status: The entire hearing will be open to the public.

Matters to be Considered: Corporate Governance of the Federal Home Loan Banks (Banks): The purpose of the hearing is to assess the current state of corporate governance of the Banks and to solicit proposals for both statutory and regulatory reform aimed at enhancing Bank governance.

Contact Persons: For general information contact Mary H. Gottlieb, Paralegal Specialist, Office of General Counsel, by telephone at (202) 408-2826 or by electronic mail at gottliebm@fhfb.gov. Submit requests to testify and copies of testimony to Shane Goettle, Counsel to the Chairman, by telephone at (202) 408-2829 or by electronic mail at goettles@fhfb.gov.

Dated: January 6, 2004.
By the Federal Housing Finance Board.
Arnold Intrater,
General Counsel.

[FR Doc. 04-479 Filed 1-6-04; 2:27 pm]

BILLING CODE 6725-01-P